DEPARTMENT OF ENERGY

Federal Energy Regulatory Commission

[Project No. 14810-000]

Chugach Electric Association, Inc.; Notice of Preliminary Permit Application Accepted for Filing and Soliciting Comments, Motions To Intervene, and Competing Applications

On December 23, 2016, Chugach Electric Association, Inc. filed an application for a preliminary permit, pursuant to section 4(f) of the Federal Power Act (FPA), proposing to study the feasibility of the Snow River Hydroelectric Project (Snow River Project or project) to be located on the Snow River, near Seward in the Kenai Peninsula Borough, Alaska. The sole purpose of a preliminary permit, if issued, is to grant the permit holder priority to file a license application during the permit term. A preliminary permit does not authorize the permit holder to perform any land-disturbing activities or otherwise enter upon lands or waters owned by others without the owners' express permission. The project would utilize 15,957 acres of land owned by the U.S. Forest Service.

The project consists of two alternatives both using the following new facilities: (1) A 700-foot-long, 300-foot-high concrete-faced rockfill or roller compacted concrete gravity dam with a 400-foot-long spillway built into the crest of the dam; (2) a 300-foot-long, 60-foot-high concrete-faced rockfill or roller compacted concrete gravity auxiliary dam on the right bank; (3) a 500-foot-long, 80-foot-high concrete-faced rockfill or roller compacted concrete gravity auxiliary dam on the left bank; and (4) a 5,321-acre reservoir.

Alternative 1

(1) A 10,040-foot-long, 14 foot-diameter horseshoe intake tunnel; (2) a 1,140-foot long, 173-inch-diameter steel penstock; (3) an 80-foot-long, 100-foot-wide pre-engineered metal powerhouse with three turbine units rated at 25 megawatts (MW) each for 75 MW total; (4) a submerged tailrace discharge; (5) a 2.55-mile-long, 69-kilovolt (kV) transmission line tying into an existing high voltage transmission line located west of the proposed powerhouse; (6) a 1,410-foot-long access road to the intake tunnel and dam; (7) a 6,858-foot-long access road to the powerhouse; and (8) appurtenant facilities.

Alternative 2

(1) A 3,310-foot-long, 14 foot-diameter horseshoe intake tunnel; (2) a 2,650-foot long, 173-inch-diamater steel penstock; (3) the same powerhouse, turbine, tailrace and transmission line as described above for Alternative 1; (4) a 12,600-foot-long access road to the intake tunnel and dam; (5) a 8,000-foot-long access road to the powerhouse; and (6) appurtenant facilities.

The estimated annual generation of the Snow River Project would be 341 gigawatt-hours.

Applicant Contact: Mr. Paul Risse, Senior Vice President, Chugach Electric Association, Inc., 5601 Electron Drive, Anchorage, AK 99518; phone: (907) 563-7494.

FERC Contact: Julia Kolberg, phone: (202) 502-8261 or email: Julia.kolberg@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14810-000.

More information about this project, including a copy of the application, can be viewed or printed on the “eLibrary” link of Commission's Web site at http://www.ferc.gov/docs-filing/elibrary.asp. Enter the docket number (P-14810) in the docket number field to access the document. For assistance, contact FERC Online Support.

Dated: January 18, 2017.
Kimberly D. Bose,
Secretary.

[FR Doc. 2017-01675 Filed 1-24-17; 8:45 am]

BILLING CODE 6717-01-P